DEPARTMENT OF THE INTERIOR

Bureau of Land Management

[Docket No. W-220-1020-PB-241A]

Extension of Approved Information Collections, OMB Control Numbers 1004-0005, 1004-0041, and 1004-0051

AGENCY: Bureau of Land Management, Interior.

ACTION: Notice of Request for Comments.

SUMMARY: In accordance with the Paperwork Reduction Act of 1995, the Bureau of Land Management (BLM) is requesting the Office of Management and Budget (OMB) to extend an existing approval to collect certain information from permittees and lessees on the actual grazing use by their livestock. BLM requires permittees or lessees to submit the required information on Forms 4120-1, 4130-1a, 4130-1b, 4130-3a, and 4130-5.

DATES: You must submit your comments to BLM at the address below on or before August 2, 2004. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0005, 1004-0041, and 1004-0051” and your name and return address in your Internet message.

You may deliver comments to the Bureau of Land Management, Administrative Record, Room 41, 1620 L Street, NW., Washington, DC.

All comments will be available for public review at the L Street address during regular business hours (7:45 a.m. to 4:15 p.m.), Monday through Friday except Federal holidays.

FOR FURTHER INFORMATION CONTACT: You may contact Ken Visser, on (775) 861-6492 (Commercial or FTS). Persons who use a telecommunication device for the deaf (TDD) may call the Federal Information Relay Service (FIRS) on 1-800-877-8330, 24 hours a day, seven days a week, to contact Mr. Visser.

SUPPLEMENTARY INFORMATION: 5 CFR 1320.12(a) requires that we provide a 60-day notice in the Federal Register concerning a collection of information to solicit comments on:

(1) Whether the collection of information is necessary for the proper functioning of the agency, including whether the information will have practical utility;

(2) The accuracy of our estimates of the information collection burden, including the validity of the methodology and assumptions we use;

(3) Ways to enhance the quality, utility, and clarity of the information collected; and

(4) Ways to minimize the information collection burden on those who are required to respond, including the use of appropriate automated, electronic, mechanical, or other technological collection techniques or other forms of information technology.

The Taylor Grazing Act of 1934 (43 U.S.C. 315) and the Federal Land Policy and Management Act of 1976 (43 U.S.C. 1701) authorize the Bureau of Land Management (BLM) to administer the livestock grazing program consistent with land use plans, multiple use objectives, sustained yield, environmental values, economic considerations, and other factors. BLM must maintain accurate records on:

(1) Permittee and lessee qualifications for a grazing permit or lease;

(2) Base property used in conjunction with public lands; and

(3) The actual use made by livestock authorized to graze on the public lands.

Form 4130-1, Grazing Schedule

BLM uses the required information on this form to adjudicate conflicting requests for grazing use, determine legal qualifications of applicants, issue permits, and document transfers. Form 4130-1a, Grazing Application for Permit/Lease (Preference Summary) BLM uses the required information on this form to verify and confirm grazing preference transfers.

Form 4130-1b, Grazing Application (Supplemental Information)

BLM uses the required information on this form to certify an applicant's qualifications for a grazing permit or lease and to provide other information necessary for the administration of the grazing permit or lease.

Form 4130-3a, Automated Grazing Application

BLM uses the required information on this form to approve changes of grazing use within the terms and conditions of permits or leases.

Form 4130-5, Actual Grazing Use Report

BLM uses the required information to determine if we need to adjust the amount of grazing use or if other management actions are needed. This form enables us to calculate billings and to monitor and evaluate livestock grazing use on the public lands.

The burden estimates for each form are listed as follows:

| Form numbers: 4130-1 | Form numbers: 4130-1a | Form numbers: 4130-1b | Form numbers: 4130-3a | Form numbers: 4130-5
Annual # of responses filed | 6,000 | 6,000 | 6,000 | 7,689 | 15,000
Average Response Time (in minutes) | 20 | 15 | 15 | 14 | 25
Annual Burden Hrs. | 2,000 | 1,500 | 1,500 | 1,794 | 6,250
Cost per hour to respondent | $20 | $20 | $20 | $20 | $20
Annual cost | $40,000 | $30,000 | $30,000 | $35,880 | $125,000

We estimate 40,689 responses per year and an annual information collection burden of 13,044 hours.

BLM will summarize all responses to this notice and include them in the request for OMB approval. All comments will become a matter of public record.

Dated: May 26, 2004.
Michael H. Schwartz,
Bureau of Land Management, Information Collection Clearance Officer.

[FR Doc. 04-12249 Filed 5-28-04; 8:45 am]

BILLING CODE 4310-84-M